DEPARTMENT OF EDUCATION

Extension of Deadline; Teacher Quality Partnership Grant Program

AGENCY: Office of Innovation and Improvement, Department of Education.

ACTION: Notice extending deadline date for the FY 2014 grant competition.

Catalog of Federal Domestic Assistance (CFDA) Number: 84.336S.

SUMMARY: On May 28, 2014, we published in the Federal Register (79 FR 30584) a notice inviting applications for the Teacher Quality Partnership Grant Program. The notice established July 14, 2014, as the deadline date for eligible applicants to apply for funding under the program. However, the Department has been informed that the Grants.gov Web site will be unavailable to applicants on July 12-13, 2014, due to a scheduled maintenance outage. To allow applicants additional time to complete their applications as a result of this outage, we are extending the deadline date for transmittal of applications to July 15, 2014.

DATES: Deadline for Transmittal of Applications: July 15, 2014.

FOR FURTHER INFORMATION CONTACT: Christine Miller, U.S. Department of Education, 400 Maryland Avenue SW., Room 4C119, Washington, DC 20202-5950. Telephone: (202) 453-5680 or by email: tqpartnership@ed.gov.

If you use a telecommunications device for the deaf or a text telephone, call, toll free: 1-877-576-7734.

SUPPLEMENTARY INFORMATION: All other information in the May 28, 2014, notice inviting applications for this competition remains the same, including the application submission instructions.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Program Authority: 20 U.S.C. 1021-1022(c).

Dated: June 23, 2014.
Nadya Chinoy Dabby,
Assistant Deputy Secretary for Innovation and Improvement.

[FR Doc. 2014-15093 Filed 6-26-14; 8:45 am]

BILLING CODE 4000-01-P